DEPARTMENT OF JUSTICE

[OMB Number 1110-0006]

Agency Information Collection Activities; Proposed eCollection; eComments Requested; Extension of a Previously Approved Collection Title—Law Enforcement Officers Killed and Assaulted

AGENCY: Federal Bureau of Investigation (FBI), Department of Justice.

ACTION: 30-Day notice.

SUMMARY: The Criminal Justice Information Services (CJIS) Division, FBI, Department of Justice (DOJ), will be submitting the following information collection request to the Office of Management and Budget (OMB) for review and approval in accordance with the Paperwork Reduction Act of 1995.

DATES: Comments are encouraged and will be accepted for 30 days until October 16, 2025.

FOR FURTHER INFORMATION CONTACT: If you have comments especially on the estimated public burden or associated response time, suggestions, or need a copy of the proposed information collection instrument with instructions or additional information, please contact: Linda Shriver, Acting Unit Chief, Crime and Law Enforcement Statistics Unit, FBI, CJIS Division, Module D-2, 1000 Custer Hollow Road, Clarksburg, West Virginia 26306; telephone: 304-625-4830; email: llshriver@fbi.gov.

SUPPLEMENTARY INFORMATION: The proposed information collection was previously published in the Federal Register on 08/06/2025, allowing a 60-day comment period. Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

Written comments and recommendations for this information collection should be submitted within 30 days of the publication of this notice on the following website: www.reginfo.gov/public/do/PRAMain. Find this particular information collection by selecting “Currently under 30-day Review—Open for Public Comments” or by using the search function and entering either the title of the information collection or the OMB Control Number 1110-0006. This information collection request may be reviewed at www.reginfo.gov. Follow the instructions to view Department of Justice, information collections currently under review by OMB.

DOJ seeks PRA authorization for this information collection for three (3) years. OMB authorization for an ICR cannot be for more than three (3) years without renewal. The DOJ notes that information collection requirements submitted to OMB for existing ICRs receive a month-to-month extension while they undergo review.

Abstract: Under Title 28, United States Code, Section 534, Acquisition, Preservation, and Exchange of Identification Records; Appointments of Officials, this collection requests Law Enforcement Officers Killed and Assaulted (LEOKA) data from federal, state, county, city, tribal, and territorial law enforcement agencies in order for the FBI's Uniform Crime Reporting (UCR) Program to serve as the national clearinghouse for the collection and dissemination of crime data and to publish Law Enforcement Officers Killed and Assaulted statistics annually.

Overview of This Information Collection

1. Type of Information Collection: Extension of a previously approved collection.

2. The Title of the Form/Collection: Law Enforcement Officers Killed and Assaulted.

3. Agency form number, if any, and the applicable component of the Department of Justice sponsoring the collection: The form number is 1-705 and the sponsor is the CJIS Division, FBI, DOJ.

4. Affected public who will be asked or required to respond, as well as a brief abstract: Federal, state, county, city, tribal, and territorial law enforcement agencies. Under Title 28, United States Code, Section 534, Acquisition, Preservation, and Exchange of Identification Records; Appointments of Officials, this collection requests Law Enforcement Officers Killed and Assaulted (LEOKA) data from federal, state, county, city, tribal, and territorial law enforcement agencies in order for the FBI's Uniform Crime Reporting (UCR) Program to serve as the national clearinghouse for the collection and dissemination of crime data and to publish Law Enforcement Officers Killed and Assaulted statistics annually.

5. Obligation to Respond: The obligation to respond is voluntary and at the discretion of the contributing agency.

6. Total Estimated Number of Respondents: In 2024, there were 19,328 active law enforcement agencies within the universe of potential respondents to the FBI's UCR Program. Agencies submitting data under the National Incident-Based Reporting System (NIBRS) totaled 14,601 and 2,074 submitted data via the Summary Reporting System (SRS). LEOKA data using Form 1-705 were submitted by 1,084 agencies and the estimated maximum number of responses was 13,008.

7. Estimated Time per Respondent: Form 1-705 requires an estimated 7 minutes to complete. This clearance is being maintained to allow agencies not yet having transitioned to NIBRS to submit LEOKA data. As SRS agencies continue to transition to NIBRS, the FBI's UCR Program expects the use of Form 1-705 to decline because the information will be submitted through NIBRS. The burden hour estimate is based on the 2024 submission volumes to achieve the highest possible burden estimate.

8. Frequency: Variable.

9. Total Estimated Annual Time Burden: There are approximately 1,517.6 annual burden hours associated with this information collection.

10. Total Estimated Annual Other Costs Burden: $0.

If additional information is required, contact: Darwin Arceo, Department Clearance Officer, Policy and Planning Staff, Justice Management Division, United States Department of Justice, Two Constitution Square, 145 N Street NE, 4W-218, Washington, DC 20530.

Dated: September 11, 2025.
Darwin Arceo,
Department Clearance Officer for PRA, U.S. Department of Justice.

[FR Doc. 2025-17791 Filed 9-15-25; 8:45 am]

BILLING CODE 4410-02-P